DEPARTMENT OF TRANSPORTATION

Office of The Secretary

Aviation Proceedings, Agreements Filed During the Week Ending May 4, 2001

The following Agreements were filed with the Department of Transportation under the provisions of 49 U.S.C. 412 and 414. Answers may be filed within 21 days after the filing of the application.

Docket Number: OST-2001-9583.

Date Filed: April 30, 2001.

Parties: Members of the International Air Transport Association.

Subject:

PSC/Reso/106 dated November 14, 2000

Expedited Resolutions/Recommended Practices r1-10

PSC/Reso/107 dated December 5, 2000

Book of Finally Adopted Resolutions/RPs r11-30

Minutes—PSC/MINS/004 dated December 5, 2000

Intended effective date: January 1/June 1, 2001

Docket Number: OST-2001-9606.

Date Filed: May 1, 2001.

Parties: Members of the International Air Transport Association.

Subject:

PTC COMP 0801 dated 1 May 2001

Mail Vote 122—Resolution 011

Mileages and Routes for Tariffs Purposes (Amending)

Intended effective date: 1 June 2001

Dorothy Y. Beard,
Federal Register Liaison.

[FR Doc. 01-12549 Filed 5-17-01; 8:45 am]

BILLING CODE 4910-62-P